DEPARTMENT OF ENERGY

Federal Energy Regulatory Commission

Combined Notice of Filings

Take notice that the Commission has received the following Natural Gas Pipeline Rate and Refund Report filings:

Filings in Existing Proceedings

Docket Numbers: PR22-37-001.

Applicants: Duke Energy Kentucky, Inc.

Description: § 284.123(g) Rate Filing: Amendment to Operating Statement in Petition for Rate Approval Filing to be effective 5/2/2022.

Filed Date: 8/11/22.

Accession Number: 20220811-5108.

Comments/Protests Due: 5 p.m. ET 8/25/22.

Docket Numbers: PR22-51-001.

Applicants: Waha Gas Storage LLC.

Description: § 284.123 Rate Filing: Waha Gas Storage Amended SOC Filing to be effective 5/1/2022.

Filed Date: 8/12/22.

Accession Number: 20220812-5014.

Comments/Protests Due: 5 p.m. ET 8/26/22.

Docket Numbers: PR22-54-001.

Applicants: Duke Energy Ohio, Inc.

Description: Amendment Filing: Amendment to Revised Operating Statement to be effective 6/1/2022.

Filed Date: 8/11/22.

Accession Number: 20220811-5113.

Comment Date: 5 p.m. ET 8/25/22.

284.123(g) Protests Due: 5 p.m. ET 8/25/22.

Docket Numbers: CP22-496-000.

Applicants: Questar Gas Company.

Description: Abbreviated Application of Questar Gas Company d/b/a Dominion Energy Utah for Limited Jurisdiction Blanket Certificate of Public Convenience and Necessity under CP22-496.

Filed Date: 08/09/2022.

Accession Number: 20220809-5117.

Comment Date: 5 p.m. ET 8/30/22.

Any person desiring to protest in any the above proceedings must file in accordance with Rule 211 of the Commission's Regulations (18 CFR 385.211) on or before 5:00 p.m. Eastern time on the specified comment date.

Filings Instituting Proceedings

Docket Numbers: RP22-1119-000.

Applicants: Northern Natural Gas Company.

Description: § 4(d) Rate Filing: 20220811 Carlton Flow Obligation to be effective 11/1/2022.

Filed Date: 8/11/22.

Accession Number: 20220811-5035.

Comment Date: 5 p.m. ET 8/23/22.

Docket Numbers: RP22-1120-000.

Applicants: SG Resources Mississippi, L.L.C.

Description: § 4(d) Rate Filing: SG Resources Mississippi, L.L.C. Revisions to FERC Gas Tariff to be effective 9/13/2022.

Filed Date: 8/11/22.

Accession Number: 20220811-5077.

Comment Date: 5 p.m. ET 8/23/22.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

The filings are accessible in the Commission's eLibrary system (https://elibrary.ferc.gov/idmws/search/fercgensearch.asp) by querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

Dated: August 12, 2022.
Kimberly D. Bose,
Secretary.

[FR Doc. 2022-17816 Filed 8-18-22; 8:45 am]

BILLING CODE 6717-01-P